DEPARTMENT OF HEALTH AND HUMAN SERVICES

Centers for Disease Control and Prevention

Advisory Committee on Immunization Practices: Meeting

In accordance with section 10(a)(2) of the Federal Advisory Committee Act (Pub. L. 92-463), the Centers for Disease Control and Prevention (CDC) announces the following Federal Committee meeting.

Name: Advisory Committee on Immunization Practices (ACIP).

Times and Dates: 8 a.m.-7 p.m., June 29, 2006; 8 a.m.-6 p.m., June 30, 2006.

Place: Centers for Disease Control and Prevention, 1600 Clifton Road, NE., Building 19, Room 232, Atlanta, Georgia 30333.

Additional Information: In order to expedite the security clearance process at the CDC Clifton Road Campus, all ACIP attendees are now required to register on-line at http://www.cdc.gov/nip/acip, which can be found under the “Upcoming Meetings” tab. Please be sure to complete all the required fields before submitting your registration.

Please Note: All non-U.S. citizens who have not pre-registered by June 2, 2006 will not be allowed access to the campus and will not be allowed to register on site. All non U.S. Citizens are required to complete the “Access Request Form” and register on line at http://www.cdc.gov/nip/acip. The access request form can be obtained by contacting Demetria Gardner at (404) 639-8836 and should be e-mailed directly to Ms. Gardner upon completion to dgardner@cdc.gov.

For Further Information Contact: Demetria Gardner, Epidemiology and Surveillance Division, National Immunization Program, CDC, 1600 Clifton Road, NE., (E-61), Atlanta, Georgia 30333, telephone (404) 639-8096, fax (404) 639-8616.

The Director, Management Analysis and Services Office, has been delegated the authority to sign Federal Register notices pertaining to announcements of meetings and other committee management activities, for both CDC and the Agency for Toxic Substances and Disease Registry.

Dated: March 28, 2006.
Alvin Hall,
Director, Management Analysis and Services Office, Centers for Disease Control and Prevention.

[FR Doc. E6-4775 Filed 3-31-06; 8:45 am]

BILLING CODE 4163-18-P